CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning a small-scale pilot for an online reporting system that grantees can use to calculate the return on investment (ROI) for their volunteer recruitment and management activities. About fifty organizations will participate in the pilot. During the last six months of the pilot, participating organizations will use the system twice to report data on their organization's activities, and will provide feedback to the system's developers.

Copies of the information collection requests can be obtained by contacting the office listed in the addresses section of this notice.

DATES: Written comments must be submitted to the individual and office listed in the ADDRESSES section by January 22, 2010.

ADDRESSES: You may submit comments, identified by the title of the information collection activity, by any of the following methods:

(1) By mail sent to: Corporation for National and Community Service, Department of Research and Policy Development; Attention Nathan Dietz, Research Associate/Statistician, Room 10907; 1201 New York Avenue, NW., Washington, DC 20525.

(2) By hand delivery or by courier to the Corporation's mailroom at Room 8100 at the mail address given in paragraph (1) above, between 9 a.m. and 4 p.m. Monday through Friday, except Federal holidays.

(3) By fax to: (202) 565-2787, Attention Nathan Dietz, Research Associate/Statistician.

(4) Electronically through the Corporation's e-mail address system: ndietz@cns.gov.

FOR FURTHER INFORMATION CONTACT: Nathan Dietz, (202) 606-6633, or by e-mail at ndietz@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation has entered into a cooperative agreement with the National Council on Aging (NCOA) to adapt its SMART (Strategic Metrics and Results Tracking) system for use by Corporation grantees and subgrantees. The goal is to develop a system that all Corporation projects can use to calculate the return on investment for the time and resources they devote to recruiting and managing volunteers.

Current Action

During the first year for this project, NCOA will:

• Build and test an online tool customized to calculate the return on investment for volunteer recruitment and management for CNCS projects;

• Orient and train subsequent pilot participants in the use of the reporting tool;

• Work with participating grantees on a six-month pilot of the tool; and

• Prepare the tool for a broad-based rollout that will facilitate collection of ROI data among a larger number of CNCS grantees.

Type of Review: New collection.

Agency: Corporation for National and Community Service.

Title: Pilot for Volunteer Management ROI Measurement System.

OMB Number: None.

Agency Number: None.

Affected Public: Selected recipients of CNCS program grants and subgrants.

Total Respondents: 50.

Frequency: Twice annually.

Average Time per Response: 4 hours.

Estimated Total Burden Hours: 400 hours.

Total Burden Cost (capital/startup): None.

Total Burden Cost (operating/maintenance): None.

Comments submitted in response to this notice will be summarized and/or included in the request for Office of Management and Budget approval of the information collection request; they will also become a matter of public record.

Dated: November 17, 2009.
Robert T. Grimm, Jr.,
Director of Research and Policy Development.

[FR Doc. E9-28043 Filed 11-20-09; 8:45 am]

BILLING CODE 6050-$$-P